DEPARTMENT OF LABOR

Employment and Training Administration

[TA-W-64,102]

Wellman, Inc. Palmetto Plant Also Known as Fiber Industries, Inc. Including On-Site Leased Workers From CMS Labor Services Darlington, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 14, 2008, applicable to workers of Wellman, Inc., Palmetto Plant, including on-site leased workers from CMS Labor Services, Darlington, South Carolina. The Department's Notice of determination was published in the Federal Register on December 1, 2008 (73 FR 72847).

At the request of a subject firm official, the Department reviewed the certification for workers of the subject firm. Workers produce polyester finer and resin, and are not separately identifiable by article produced.

New information shows that some of the workers' wages are being reported under the State of South Carolina Unemployment Insurance (UI) tax accounts for Fiber Industries, Inc.

Accordingly, the Department is amending this certification to properly reflect this matter.

The intent of the Department's certification is to include all workers of Wellman, Inc., Palmetto Plant, also known as Fiber Industries, Inc., including on-site leased workers from CMS Labor Services, Darlington, South Carolina, who were adversely affected by increased imports of polyester fiber and resin.

The amended notice applicable to TA-W-64,102 is hereby issued as follows:

“All workers of Wellman, Inc., Palmetto Plant, also known as Fiber Industries, Inc., including on-site leased workers from CMS Labor Services, Darlington, South Carolina, who became totally or partially separated from employment on or after May 4, 2008, through November 14, 2010, are eligible to apply for adjustment assistance under Section 223 of the Trade Act of 1974, and are also eligible to apply for alternative trade adjustment assistance under Section 246 of the Trade Act of 1974.”

Signed at Washington, DC, this 9th day of February 2009
Elliott S. Kushner,
Certifying Officer, Division of Trade Adjustment Assistance.

[FR Doc. E9-3729 Filed 2-20-09; 8:45 am]

BILLING CODE 4510-FN-P